DEPARTMENT OF DEFENSE

Defense Acquisition Regulations System

48 CFR Part 235

RIN 0750-AF45

Defense Federal Acquisition Regulation Supplement; Contracting Methods and Contract Type (DFARS Case 2006-D018)

AGENCY: Defense Acquisition Regulations System, Department of Defense (DoD).

ACTION: Proposed rule with request for comments.

SUMMARY: DoD is proposing to amend the Defense Federal Acquisition Regulation Supplement (DFARS) to add an exception to the requirement for a written determination before using a fixed-price type contract for a development program effort. The exception would apply to contracts for systems integration of commercial off-the-shelf information technology products under the DoD Enterprise Software Initiative.

DATES: Comments on the proposed rule should be submitted in writing to the address shown below on or before January 8, 2007, to be considered in the formation of the final rule.

ADDRESSES: You may submit comments, identified by DFARS Case 2006-D018, using any of the following methods:

• Federal eRulemaking Portal: http://www.regulations.gov. Follow the instructions for submitting comments.

• E-mail: dfars@osd.mil. Include DFARS Case 2006-D018 in the subject line of the message.

• Fax: (703) 602-0350.

• Mail: Defense Acquisition Regulations System, Attn: Mr. Mark Gomersall, OUSD (AT&L) DPAP (DARS), IMD 3C132, 3062 Defense Pentagon, Washington, DC 20301-3062.

• Hand Delivery/Courier: Defense Acquisition Regulations System, Crystal Square 4, Suite 200A, 241 18th Street, Arlington, VA 22202-3402.

Comments received generally will be posted without change to http://www.regulations.gov, including any personal information provided.

FOR FURTHER INFORMATION CONTACT: Mr. Mark Gomersall, (703) 602-0302.

SUPPLEMENTARY INFORMATION:

A. Background

This proposed rule amends DFARS 235.006 to add an exception to the requirement for a written determination before using a fixed-price type contract for a development program effort. The exception would apply to contracts for systems integration of commercial off-the-shelf information technology products under the DoD Enterprise Software Initiative. The Enterprise Software Initiative, addressed in DFARS Subpart 208.74, promotes the use of enterprise software agreements with contractors that allow DoD to obtain favorable terms and pricing for commercial software and related services.

This rule was not subject to Office of Management and Budget review under Executive Order 12866, dated September 30, 1993.

B. Regulatory Flexibility Act

DoD does not expect this rule to have a significant economic impact on a substantial number of small entities within the meaning of the Regulatory Flexibility Act, 5 U.S.C. 601, et seq., because the rule relates to requirements for a written determination that is prepared and executed by the Government. The rule makes no significant change to DoD policy regarding the use of fixed-price contracts for development effort. Therefore, DoD has not performed an initial regulatory flexibility analysis. DoD invites comments from small businesses and other interested parties. DoD also will consider comments from small entities concerning the affected DFARS subpart in accordance with 5 U.S.C. 610. Such comments should be submitted separately and should cite DFARS Case 2006-D018.

C. Paperwork Reduction Act

The Paperwork Reduction Act does not apply, because the rule does not impose any information collection requirements that require the approval of the Office of Management and Budget under 44 U.S.C. 3501, et seq.

List of Subjects in 48 CFR Part 235

Government procurement.

Michele P. Peterson,
Editor, Defense Acquisition Regulations System.

Therefore, DoD proposes to amend 48 CFR part 235 as follows:

PART 235—RESEARCH AND DEVELOPMENT CONTRACTING

1. The authority citation for 48 CFR part 235 continues to read as follows:

Authority: 41 U.S.C. 421 and 48 CFR Chapter 1.

2. Section 235.006 is amended as follows:

a. By revising paragraph (b)(i)(C) introductory text;

b. By redesignating paragraphs (b)(ii) and (iii) as paragraphs (b)(iii) and (iv) respectively; and

c. By adding a new paragraph (b)(ii) to read as follows:

235.006 Contracting methods and contract type.

(b)(i) * * *

(C) Except as provided in paragraph (b)(ii) of this section, a written determination that the criteria of paragraphs (b)(i)(A) and (B) of this section have been met is executed—

(ii) The written determination specified in paragraph (b)(i)(C) of this section is not required for the acquisition of systems integration of commercial off-the-shelf information technology products under the Enterprise Software Initiative (see Subpart 208.74).

* * * * *

[FR Doc. E6-19034 Filed 11-8-06; 8:45 am]

BILLING CODE 5001-08-P